NUCLEAR REGULATORY COMMISSION

[NRC-2011-0224]

Draft Regulatory Guide; Issuance, Availability

AGENCY: Nuclear Regulatory Commission.

ACTION: Notice of issuance and availability of Draft Regulatory Guide, DG-8050, “Applications of Bioassay for Radioiodine.”

SUMMARY: The U.S. Nuclear Regulatory Commission (NRC) is issuing for public comment draft regulatory guide (DG), DG-8050, “Applications of Bioassay for Radioiodine.” This regulatory guide provides criteria and methods acceptable to the staff of the NRC for the development and implementation of personnel monitoring and bioassay programs for any licensee handling or processing unsealed materials containing iodine-125 (¹²⁵I), iodine-131 (¹³¹I), or a combination of the two. It also provides guidance on the selection of workers who should participate in such a bioassay program to detect and measure possible exposure. The guide does not address measurement techniques and procedures.

DATES: Submit comments by November 22, 2011. Comments received after this date will be considered if it is practical to do so, but the NRC is able to ensure consideration only for comments received on or before this date. Although a time limit is given, comments and suggestions in connection with items for inclusion in guides currently being developed or improvements in all published guides are encouraged at any time.

ADDRESSES: Please include Docket ID NRC-2011-0224 in the subject line of your comments. For additional instructions on submitting comments and instructions on accessing documents related to this action, see “Submitting Comments and Accessing Information” in the SUPPLEMENTARY INFORMATION section of this document. You may submit comments by any one of the following methods:

• Federal Rulemaking Web site: Go to http://www.regulations.gov and search for documents filed under Docket ID NRC-2011-0224. Address questions about NRC dockets to Carol Gallagher, telephone: 301-492-3668; e-mail: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

SUPPLEMENTARY INFORMATION:

Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You can access publicly available documents related to this document using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov. DG-1278 is available electronically under ADAMS Accession No. ML102800439. The regulatory analysis is available electronically under ADAMS Accession Number ML102800445.

• Federal Rulemaking Web site: Public comments and supporting materials related to this notice can be found at http://www.regulations.gov by searching on Docket ID NRC-2011-0224.

FOR FURTHER INFORMATION CONTACT: R. A. Jervey, U.S. Nuclear Regulatory Commission, Washington, DC 20555-0001, telephone: 301-251-7404 or e-mail Richard.Jervey@nrc.gov.

The NRC is issuing for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), entitled, “Applications of Bioassay for Radioiodine,” is temporarily identified by its task number, DG-8050, which should be mentioned in all related correspondence. DG-8050 is proposed Revision 2 of Regulatory Guide 8.20, dated September 1979.

This regulatory guide provides criteria and methods acceptable to the staff of the NRC for the development and implementation of personal monitoring and bioassay programs for any licensee handling or processing unsealed materials containing iodine-125 (¹²⁵I), iodine-131 (¹³¹I), or a combination of the two. It also provides guidance on the selection of workers who should participate in such a bioassay program to detect and measure possible exposure. The guide does not address measurement techniques and procedures.

For the Nuclear Regulatory Commission.
Dated at Rockville, Maryland, this 16th day of September, 2011.
Robert G. Carpenter,
Acting Chief, Regulatory Guide Development Branch, Division of Engineering, Office of Nuclear Regulatory Research.

[FR Doc. 2011-24615 Filed 9-23-11; 8:45 am]

BILLING CODE 7590-01-P